DEPARTMENT OF ENERGY

Federal Energy Regulatory Commission

[Docket No. OR11-15-000]

Chevron Products Company v. SFPP, L.P.; Notice of Complaint

Take notice that on June 13, 2011, pursuant to 13(1) of the Interstate Commerce Act (“ICA”), 49 U.S.C. App. 13(1), Rule 206 of the Commission's Rules of Practice and Procedure, 18 CFR 385.206, and the Commission's Procedural Rules Applicable to Oil Pipeline Proceedings, 18 CFR 343.1(a), Chevron Products Company (Complainant) filed a formal complaint against SFPP, L.P. (Respondent) challenging the lawfulness of indexed rate increases filed by SFPP on May 27, 2011, in Docket No. IS11-444. This complaint is directed at the proposed rates contained in the Respondent's Tariff Nos. 194.1.0, 195.1.0, 196.3.0, 197.1.0, 198.3.0, 199.1.0, and 200.1.0 and successor tariffs, supplements and reissuances.

The Complainant states that a copy of the complaint has been served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 5, 2011.

Dated: June 14, 2011.
Kimberly D. Bose,
Secretary.

[FR Doc. 2011-15258 Filed 6-17-11; 8:45 am]

BILLING CODE 6717-01-P